ENVIRONMENTAL PROTECTION AGENCY

[FRL-9972-42-OARM]

Request for Nominations to the National and Governmental Advisory Committees to the U.S. Representative to the Commission for Environmental Cooperation

AGENCY: Environmental Protection Agency (EPA).

ACTION: Notice of request for nominations.

SUMMARY: The U.S. Environmental Protection Agency (EPA) invites nominations from a diverse range of qualified candidates to be considered for appointment to the National Advisory Committee (NAC) and the Governmental Advisory Committee (GAC), to advise the U.S. Representative to the Commission for Environmental Cooperation (CEC). Vacancies on these two committees are expected to be selected by the spring of 2018. Please submit nominations by no later than February 16, 2018. Additional sources may be utilized in the solicitation of nominees.

SUPPLEMENTARY INFORMATION:

Background: The National Advisory Committee and the Governmental Advisory Committee advise the EPA Administrator in his capacity as the U.S. Representative to the CEC Council. The Committees are authorized under Articles 17 and 18 of the North American Agreement on Environmental Cooperation (NAAEC), and as directed by Executive Order 12915, entitled “Federal Implementation of the North American Agreement on Environmental Cooperation.” The Committees are responsible for providing advice to the United States Representative on a wide range of strategic, scientific, technological, regulatory and economic issues related to implementation and further elaboration of the NAAEC. The National Advisory Committee consists of 15 representatives from environmental non-profit groups, business and industry, and educational institutions. The Governmental Advisory Committee consists of 14 representatives from state, local, and tribal governments. Members are appointed by the EPA Administrator for a two-year term. The committees usually meet 3 times per year and the average workload for committee members is approximately 10 to 15 hours per month. Members serve on the committees in a voluntary capacity.

Although we are unable to provide compensation or an honorarium for your services, you may receive travel and per diem allowances, according to applicable federal travel regulations. EPA is seeking nominations from various sectors, i.e., for the NAC we are seeking nominees from academia, business and industry, and non-governmental organizations; for the GAC we are seeking nominees from state, local and tribal government sectors. Nominees will be considered according to the mandates of FACA, which requires committees to maintain diversity across a broad range of constituencies, sectors, and groups. EPA values and welcomes diversity. In an effort to obtain nominations of diverse candidates, EPA encourages nominations of women and men of all racial and ethnic groups. The following criteria will be used to evaluate nominees:

• Professional knowledge of the subjects examined by the committees, including trade & environment issues, NAFTA, the NAAEC, and the CEC.

• Represent a sector or group involved in trilateral environmental policy issues.

• Senior-level experience in the sectors represented on both committees.

• A demonstrated ability to work in a consensus building process with a wide range of representatives from diverse constituencies.

• Nominees may self-nominate.

If you are interested in serving on the NAC or GAC, please submit the following information:

• Nominations must include a brief statement of interest, a resume or curriculum vitae, and a short biography describing your professional and educational qualifications, including a list of relevant activities and any current or previous service on advisory committees. The statement of interest, resume, curriculum vitae, or short biography should include the candidate's name, and name and address of current organization, position title, email address, and daytime telephone number(s). In preparing your statement of interest, please describe how your background, knowledge, and experience, will bring value to the work of the NAC or GAC, and how these qualifications will contribute to the overall diversity of the committees. Also, please describe any previous involvement with EPA through employment, grant funding, and/or contracting sources.

• Candidates from the academic and tribal sectors must also provide a letter of recommendation authorizing the nominee to represent their organization or Tribal government.

• Please be advised that federally registered lobbyists are not permitted to serve on federal advisory committees.

• EPA's policy is that, unless otherwise prescribed by statute, members generally are appointed for two-year terms.

ADDRESSES: Submit nominations to Oscar Carrillo, U.S. Environmental Protection Agency (1601-M), 1200 Pennsylvania Avenue NW, Washington, DC 20460. You may also email nominations with subject line “NAC/GAC Nomination 2018” to carrillo.oscar@epa.gov.

FOR FURTHER INFORMATION CONTACT: Oscar Carrillo, Designated Federal Officer, U.S. EPA, telephone (202) 564-0347; fax (202) 564-8129.

Dated: December 14, 2017.
Oscar Carrillo,
Designated Federal Officer.

[FR Doc. 2017-27627 Filed 12-21-17; 8:45 am]

BILLING CODE 6560-50-P